FEDERAL COMMUNICATIONS COMMISSION

47 CFR Part 73

[DA 02-687; MM Docket No. 01-120, RM-10126]

Radio Broadcasting Services; Lincoln and Sherman, IL

AGENCY: Federal Communications Commission.

ACTION: Final rule.

SUMMARY: In this document, the Commission grants a petition for rule making filed by Saga Communications, Inc., licensee of Station WMHX(FM), Lincoln, Illinois, and reallots Channel 230B1 from Lincoln to Sherman, Illinois, and modifies the license of Station WMHX to reflect the change of community. Channel 230B1 can be allotted at petitioner's requested site 13 kilometers (8.1 miles) north of the community. Coordinates for Channel 230B1 at Sherman are 40-00-09 NL and 89-39-35 WL. Opposing comments were filed by P&M Communications and Long Nine, Inc.

DATES: Effective May 6, 2002.

FOR FURTHER INFORMATION CONTACT: Victoria M. McCauley, Mass Media Bureau, (202) 418-2180.

SUPPLEMENTARY INFORMATION: This is a synopsis of the Commission's Report and Order, MM Docket No. 01-120 adopted March 13, 2002 and released March 22, 2002. The full text of this document is available for public inspection and copying during regular business hours at the FCC Reference Information Center, Portals II, 445 12th Street, SW., Room CY-A257, Washington, DC 20554. This document may also be purchased from the Commission's duplicating contractor, Qualex International, Portals II, 445 12th Street, SW, Room CY-B402, Washington, DC 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Illinois, is amended by removing Lincoln, Channel 230B1 and adding Sherman, Channel 230B1.

Federal Communications Commission.
John A. Karousos,
Chief, Allocations Branch, Policy and Rules Division, Mass Media Bureau.

[FR Doc. 02-8398 Filed 4-5-02; 8:45 am]

BILLING CODE 6712-01-P